DEPARTMENT OF STATE

[Public Notice: 7594]

Designation of the Indian Mujahideen, Also Known as Indian Mujahedeen, Also Known as Indian Mujahidin, Also Known as Islamic Security Force-Indian Mujahideen (ISF-IM), as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to the Indian Mujahideen, also known as Indian Mujahedeen, also known as Indian Mujahidin, also known as Islamic Security Force-Indian Mujahideen (ISF-IM).

Therefore, I hereby designate the aforementioned organization and its aliases as a Foreign Terrorist Organization pursuant to section 219 of the INA.

This determination shall be published in the Federal Register.

Dated: September 6, 2011.
Hillary Rodham Clinton,
Secretary of State.

[FR Doc. 2011-24027 Filed 9-16-11; 8:45 am]

BILLING CODE 4710-10-P